DEPARTMENT OF LABOR

Employment and Training Administration

[TA-W-85,592]

Micro Power Electronics, Inc., a Division Of Electrochem Solutions, Inc., a Subsidiary of Greatbatch, LTD. Including On-Site Leased Workers From Aerotek, Superior Group, Superior Talent, Nesco and Northwest Staffing Beaverton, Oregon; Amended Certification Regarding Eligibility To Apply for Worker Adjustment Assistance and Alternative Trade Adjustment Assistance

In accordance with Section 223 of the Trade Act of 1974, as amended (“Act”), 19 U.S.C. 2273, the Department of Labor issued a Certification of Eligibility to Apply for Worker Adjustment Assistance and Alternative Trade Adjustment Assistance on October 23, 2014, applicable to workers of Micro Power Electronics, Inc., a division of Electrochem Solutions, Inc., a subsidiary of Greatbatch, Ltd., including on-site leased workers from Aerotek and Superior Group, Beaverton, Oregon. The Department's notice of determination was published in the Federal Register on November 20, 2014 (79 FR 69134).

At the request of a State workforce office, the Department reviewed the certification for workers of the subject firm. The workers were engaged in activities related to the production of power supplies for medical, energy and military products. The company reports that workers leased from Superior Talent, Nesco and Northwest Staffing were employed on-site at the Beaverton, Oregon location of Micro Power Electronics, Inc., a division of Electrochem Solutions, Inc. The Department has determined that these workers were sufficiently under the control of the subject firm to be considered leased workers.

Based on these findings, the Department is amending this certification to include workers leased from Superior Talent, Nesco and Northwest Staffing working on-site at the Beaverton, Oregon location of Micro Power Electronics, Inc., a division of Electrochem Solutions, Inc.

The amended notice applicable to TA-W-85,592 is hereby issued as follows:

All workers of Micro Power Electronics, Inc., a division of Electrochem Solutions, Inc., a subsidiary of Greatbatch, Ltd., including on-site leased workers from Aerotek, Superior Group, Superior Talent, Nesco and Northwest Staffing, Beaverton, Oregon, who became totally or partially separated from employment on or after October 10, 2013, through October 23, 2016, are eligible to apply for adjustment assistance under Chapter 2 of Title II of the Trade Act of 1974, as amended, and are also eligible to apply for alternative trade adjustment assistance under Section 246 of the Trade Act of 1974, as amended.

Signed in Washington, DC, this 16th day of June, 2016.
Hope D. Kinglock,
Certifying Officer, Office of Trade Adjustment Assistance.

[FR Doc. 2016-16838 Filed 7-15-16; 8:45 am]

BILLING CODE P